DEPARTMENT OF HEALTH AND HUMAN SERVICES

Eleventh Meeting of the National Clinical Care Commission; Correction

AGENCY: Office on Women's Health, Office of the Assistant Secretary for Health, Office of the Secretary, Department of Health and Human Services.

ACTION: Notice; correction.

SUMMARY: The Office of the Assistant Secretary for Health published a document in the Federal Register of May 4, 2021, concerning a virtual meeting of the National Clinical Care Commission. The date of the eleventh meeting of the Commission has changed. The original dates for the eleventh meeting were May 19 and June 1, 2021. The new dates for the two-day meeting are June 1 and June 22, 2021.

FOR FURTHER INFORMATION CONTACT: Kara Elam, Ph.D., MPH, MS, Designated Federal Officer, National Clinical Care Commission, U.S. Department of Health and Human Services, Office on Women's Health, 200 Independence Ave. SW, 7th Floor, Washington, DC 20201, Phone: (240) 435-9438, Email: Kara.Elam@hhs.gov.

SUPPLEMENTARY INFORMATION:

Correction

In the Federal Register of May 4, 2021, FR Doc. 2021-09277, page 23731, in the first column, correct the Summary caption to read:

SUMMARY: The National Clinical Care Commission (the Commission) will conduct its eleventh meeting virtually on June 1 and June 22, 2021. The Commission is charged to evaluate and make recommendations to the U.S. Department of Health and Human Services (HHS) Secretary and Congress regarding improvements to the coordination and leveraging of federal programs related to diabetes and its complications.

Correction

In the Federal Register of May 4, 2021, FR Doc. 2021-09277, page 23731, in the first column, correct the Dates caption to read:

DATES: The two-day meeting will take place June 1 and June 22, 2021 from 1 p.m. to approximately 6 p.m. Eastern Time (ET).

Dated: May 4, 2021.
Dorothy A. Fink,
Deputy Assistant Secretary for Women's Health.

[FR Doc. 2021-10258 Filed 5-13-21; 8:45 am]

BILLING CODE 4150-32-P